DEPARTMENT OF TRANSPORTATION

Federal Aviation Administration

Notice of Intent To Rule on Application To Impose and Use the Revenue From a Passenger Facility Charge (PFC) at Falls International Airport, International Falls, Minnesota

AGENCY: Federal Aviation Administration (FAA), DOT.

ACTION: Notice of intent to rule on application.

SUMMARY: The FAA proposes to rule and invites public comment on the application to impose and use the revenue from a PFC at Falls International Airport under the provisions of the Aviation Safety and Capacity Expansion Act of 1990 (Title IX of the Omnibus Budget Reconciliation Act of 1990) (Public Law 101-508) and Part 518 of the Federal Aviation Regulations (14 CFR Part 158).

DATES: Comments must be received on or before March 29, 2000.

ADDRESSES: Comments on this application may be mailed or delivered in triplicate to the FAA at the following address: Minneapolis Airports District Office, 6020 28th Avenue, Room 102, Minneapolis, Minnesota 55450.

In addition, one copy of any comments submitted to the FAA must be mailed or delivered to Susan Baratono, Secretary of the International Falls-Koochiching County Airport Commission at the following address: PO Box 392, International Falls, Minnesota 56649. Air carriers and foreign air carriers may submit copies of written comments previously provided to the International Falls-Koochiching County Airport Commission under section 158.23 of Part 158.

FOR FURTHER INFORMATION CONTACT: Sandra E. DePottey, Program Manager, Minneapolis Airports District Office, 6020 28th Avenue South, Room 102, Minneapolis, Minnesota 55450 612-713-4363. The application may be reviewed in person at this same location.

SUPPLEMENTARY INFORMATION: The FAA proposes to rule and invites public comment on the application to impose and use the revenue from a PFC at Falls International Airport under the provisions of the Aviation Safety and Capacity Expansion Act of 1990 (Title IX of the Omnibus Budget Reconciliation Act of 1990) (Public Law 101-508) and Part 158 of the Federal Aviation Regulations (14 CFR part 158).

On February 15, 2000, the FAA determined that the application to impose and use the revenue from a PFC submitted by International Falls-Koochiching County Airport Commission was substantially complete within the requirements of section 158.25 of Part 158. The FAA will approve or disapprove the application, in whole or in part, no later than June 7, 2000.

The following is a brief overview of the application.

Level of the proposed PFC: $3.00.

Proposed charge effective date: July 1, 2000.

Proposed charge expiration date: August 1, 2006.

Total estimated PFC revenue: $319,740.00.

Brief description of proposed projects: Terminal building modifications (foundation work), acquire SRE, acquire ARFF, construct shoulders runway 13/31, replace HIRLs runway 13/31, replace runway 13/31 REILs, replace beacon, replace SRE, terminal modification HVAC, environmental study for MALSR installation, construct terminal building entrance canopy, PFC administration.

Class or classes of air carriers which the public agency has requested not be required to collect PFCs: Air taxi/commercial operators.

Any person may inspect the application in person at the FAA office listed above under FOR FURTHER INFORMATION CONTACT.

In addition, any person may, upon request, inspect the application, notice and other documents germane to the application in person at the International Falls-Koochiching County Airport Commission.

Issued in Des Plaines, Illinois on February 18, 2000.
Benito De Leon,
Manager, Planning/Programming Branch, Airports Division, Great Lakes Region.

[FR Doc. 00-4636 Filed 2-25-00; 8:45 am]

BILLING CODE 4910-13-M